DEPARTMENT OF COMMERCE

International Trade Administration

[A-201-822]

Stainless Steel Sheet and Strip in Coils From Mexico: Extension of Time Limit for Final Results of Antidumping Duty Administrative Review

AGENCY: Import Administration, International Trade Administration, Department of Commerce.

DATES: Effective Date: December 9, 2009.

FOR FURTHER INFORMATION CONTACT: Patrick Edwards, Brian Davis, or Angelica Mendoza, AD/CVD Operations, Office 7, Import Administration, International Trade Administration, U.S. Department of Commerce, 14th Street and Constitution Avenue NW., Washington, DC 20230; telephone: (202) 482-8029, (202) 482-7924, or (202) 482-3019, respectively.

SUPPLEMENTARY INFORMATION:

Background

On August 7, 2009, the Department published in the Federal Register the preliminary results of the administrative review of the antidumping duty order on stainless steel sheet and strip in coils (S4 in coils) from Mexico for the period July 1, 2007, through June 30, 2008. See Stainless Steel Sheet and Strip in Coils From Mexico; Preliminary Results of Antidumping Duty Administrative Review and Intent Not To Revoke Order in Part, 74 FR 39622 (August 7, 2009) (Preliminary Results). In the Preliminary Results, we invited parties to comment. In response to the Department's invitation to comment on the preliminary results of this review, Mexinox submitted a request for a public hearing and a case brief on September 4, 2009, and September 15, 2009, respectively. See Letter from Hogan & Hartson LLP (counsel for respondent) titled “Stainless Steel Sheet and Strip in Coils from Mexico—Request for Hearing,” dated September 4, 2009; see also Case Brief from Hogan & Hartson, LLP titled “Stainless Steel Sheet and Strip in Coils from Mexico—Case Brief,” dated September 15, 2009. Allegheny Ludlum Corporation, AK Steel Corporation, and North American Stainless (collectively referred to as petitioners), submitted their rebuttal brief on September 24, 2009. See Letter from Kelley, Drye, & Warren, LLP (counsel for petitioner), titled “Stainless Steel Sheet and Strip in Coils from Mexico—Petitioner's Rebuttal Brief,” dated September 24, 2009. To accommodate respondent's request, a public hearing was held on October 2, 2009. See Transcript of “In the Matter of: The Administrative Review of the Antidumping Duty Order on Stainless Steel Sheet and Strip in Coils from Mexico,” dated October 9, 2009. The current deadline for the final results of this review is December 5, 2009.

Extension of Time Limits for Final Results

Section 751(a)(3)(A) of the Tariff Act of 1930, as amended (the Act), requires the Department to complete the final results of an administrative review within 120 days after the date on which the preliminary results are published. However, if it is not practicable to complete the review within the time period, section 751(a)(3)(A) of the Act allows the Department to extend the 120 day time period for the final results up to 180 days.

The Department finds that it is not practicable to complete this review within the original time frame because additional analysis must be performed with respect to several complex issues raised by the parties, such as Mexinox's cost of production, etc. Accordingly, the Department is extending fully the time limit for completion of the final results of this administrative review until no later than February 3, 2010, which is 180 days after the date on which the preliminary results of review were published.

This extension is issued and published in accordance with sections 751(a)(3)(A) and 777(i) of the Act.

Dated: December 3, 2009.
John M. Andersen,
Acting Deputy Assistant Secretary for Antidumping and Countervailing Duty Operations.

[FR Doc. E9-29362 Filed 12-8-09; 8:45 am]

BILLING CODE 3510-DS-P